DEPARTMENT OF THE INTERIOR

Bureau of Land Management

[LLORM06000.L63000000.DD0000-HAG22-0017]

Notice of Recreational Target Shooting Closure on Public Lands in the Anderson Butte Area of Jackson County, OR

AGENCY: Bureau of Land Management, Interior.

ACTION: Notice of temporary closure.

SUMMARY: The Bureau of Land Management (BLM) is temporarily closing 11 sites, totaling 50 acres, in the Anderson Butte area of Jackson County, Oregon, south of the cities of Jacksonville and Medford, to recreational target shooting for 2 years.

DATES: The lands described later in this notice will be temporarily closed to recreational target shooting for 2 years from 12:01 a.m., October 20, 2022.

ADDRESSES: A notice, a map of the target shooting closure, and other documents associated with the temporary recreational target shooting closure are available at the BLM Medford District Office, 3040 Biddle Rd., Medford, Oregon 97504, and on the BLM's National NEPA Register ePlanning website: https://eplanning.blm.gov/eplanning-ui/project/123432/510.

FOR FURTHER INFORMATION CONTACT: Lauren Brown, Ashland Field Office Manager, telephone: (541) 618-2232, email: lpbrown@blm.gov, or by mail at the Medford District Office.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The temporary closure order applies to 11 sites that encompass approximately 4.5 acres (250-foot radius circle) each and will collectively total approximately 50 acres of BLM-administered lands in the Anderson Butte area of Jackson County, Oregon. This temporary closure is necessary to protect persons, property, public lands, and resources from the discharge or use of firearms at unsafe locations. The temporary closure applies only to recreational target shooting. It does not prohibit public access to this portion of the Anderson Butte or apply to legal hunting in the area.

The Anderson Butte area of BLM-administered lands consists of approximately 11,459 acres located immediately south of the cities of Jacksonville and Medford, Oregon. The area is used for a variety of outdoor recreational activities including, but not limited to, hiking, horseback riding, hunting, mountain biking, off-highway vehicle use, and recreational target shooting. Despite more than 5 years of efforts to reduce conflicts and dangers associated with recreational target shooting, the BLM continues to receive reports of stray bullets traveling across recreational trails and roads or onto nearby private property. Eleven sites were identified as posing a high risk of potential harm to recreational users of the area and nearby residents due to recreational target shooting activities occurring at those sites.

To ameliorate the dangerous and unsafe target shooting activities at the 11 locations, the BLM Ashland Field Office signed a Decision Record on March 10, 2022, authorizing a temporary closure to recreational target shooting on select public lands. As stated earlier, the temporary closure only affects recreational target shooting; it does not affect legal hunting.

The BLM will monitor recreation uses and site conditions during the 2-year temporary closure to determine if it resolves the identified safety issues. The findings will help guide long-term solutions to these land management challenges.

The BLM will post recreational target shooting closure signs at main entry points to the Anderson Butte area and at the 11 target shooting locations.

Description of Closed Areas: The legal description of the affected public lands is:

Table 1—Center Point of Restriction Site Locations, 250′ Buffer From Center
Site No. | Latitude, longitude | Township, range, section, and subsection
1 | 42°13′50.92″ N, 122°55′32.47″ W | T38S, R2W, Sec. 27, SW¼
2 | 42°13′05.97″ N, 122°55′42.47″ W | T38S, R2W, Sec. 34, SW¼
3 | 42°12′22.14″ N, 122°55′59.83″ W | T39S, R2W, Sec. 3, SW¼
4 | 42°13′02.40″ N, 122°54′26.51″ W | T38S, R2W, Sec. 35, SW¼
5 | 42°12′31.66″ N, 122°54′10.50″ W | T39S, R2W, Sec. 2, NE¼
6 | 42°12′29.14″ N, 122°54′23.39″ W | T39S, R2W, Sec. 2, NW¼
7 | 42°12′08.84″ N, 122°54′56.21″ W | T39S, R2W, Sec. 3, SE¼
8 | 42°11′42.75″ N, 122°53′15.56″ W | T39S, R2W, Sec. 12, NW¼
9 | 42°11′43.92″ N, 122°53′27.04″ W | T39S, R2W, Sec. 12, NW¼
10 | 42°10′41.22″ N, 122°55′47.82″ W | T39S, R2W, Sec. 15, SW¼
11 | 42°11′16.57″ N, 122°56′33.62″ W | T39S, R2W, Sec. 9, SE¼

Closure: The 11 sites that each encompass approximately 4.5 acres (250-foot radius circle) and totaling approximately 50 acres as described above will be temporarily closed to recreational target shooting.

Exceptions to Closure: The following persons are exempt from this order: Federal, State, and local officers and employees in the performance of their official duties; members of organized rescue or fire-fighting forces in the performance of their official duties; and persons with written authorization from the BLM.

Enforcement: Any person who violates the restriction may be tried before a United States magistrate and fined in accordance with 18 U.S.C. 3571, imprisoned no more than 12 months under 43 U.S.C. 1733(a) and 43 CFR 8360.0-7, or both. In accordance with 43 CFR 8365.1-7, State or local officials may also impose penalties for violations of State law.

Effect of Closure: The 11 sites that encompass approximately 4.5 acres (250-foot radius circle) totaling approximately 50 acres as described earlier and for the duration as described are temporarily closed to recreational target shooting unless specifically excepted as described above.

(Authority: 43 CFR 8364.1)

Lauren Brown,
Ashland Field Manager.

[FR Doc. 2022-20278 Filed 9-19-22; 8:45 am]

BILLING CODE 4310-32-P